FEDERAL COMMUNICATIONS COMMISSION

Open Commission Meeting, Thursday, August 4, 2016

July 28, 2016.

The Federal Communications Commission will hold an Open Meeting on the subjects listed below on Thursday, August 4, 2016 which is scheduled to commence at 10:30 a.m. in Room TW-C305, at 445 12th Street SW., Washington, DC.

Item No. | Bureau | Subject
1 | Consumer & Governmental Affairs | Title: Implementation of the Twenty-First Century Communications and Video Accessibility Act of 2010, Section 105, Relay Services for Deaf-Blind Individuals (CG Docket No. 10-210).
|  | Summary: The Commission will consider a Report and Order that would convert the National Deaf Blind Equipment Distribution Program from a pilot to a permanent program.
2 | Wireless Telecommunications | Title: Improvements to Benchmarks and Related Requirements Governing Hearing Aid-Compatible Mobile Handsets (WT Docket No. 15-285).
|  | Summary: The Commission will consider a Report and Order that would implement changes to the scope of the wireless hearing aid compatibility rules.
3 | Wireline Competiton | Title: Rates for Interstate Inmate Calling Services (WC Docket No. 12-375).
|  | Summary: The Commission will consider an Order on Reconsideration, responding to a petition filed by Michael S. Hamden, that would ensure that the rates for Inmate Calling Services (ICS) are just, reasonable, and fair and explicitly account for facilities' ICS-related costs.

* * * * *

Consent Agenda

The Commission will consider the following subjects listed below as a consent agenda and these items will not be presented individually:

1 | Media | Title: Atlantic City Board of Education, Applications for Renewal of License and Minor Modifications to WAJM(FM), Atlantic City, NJ.
|  | Summary: The Commission will consider a Memorandum Opinion and Order concerning the renewal of WAJM(FM), a student-run station and an Application for Review filed by Press Communications, LLC.
2 | Media | Title: Amendment of Section 73.622(i), Post-Transition Table of DTV Allotments, Television Broadcast Stations (Seaford, Delaware).
|  | Summary: The Commission will consider a Memorandum Opinion and Order concerning the Application for Review filed by PMCM, former licensee of KJWY(TV).
3 | General Counsel | Title: In the Matter of Warren Havens on Request for Inspection of Records (FOIA Control Nos. 2014-650, 2014-651, 2014-663, and 2014-664).
|  | Summary: The Commission will consider a Memorandum Opinion and Order concerning an Application for Review filed by Warren Havens, which appealed two decisions by the Enforcement Bureau denying four Freedom of Information Act requests.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted, but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the Internet from the FCC Live Web page at www.fcc.gov/live.

For a fee this meeting can be viewed live over George Mason University's Capitol Connection. The Capitol Connection also will carry the meeting live via the Internet. To purchase these services, call (703) 993-3100 or go to www.capitolconnection.gmu.edu.

Federal Communications Commission.
Marlene H. Dortch,
Secretary.

[FR Doc. 2016-18586 Filed 8-4-16; 8:45 am]

BILLING CODE 6712-01-P